Title 3—

The President

Proclamation 10521 of February 24, 2023

National Eating Disorders Awareness Week, 2023

By the President of the United States of America

A Proclamation

Nearly 1 in 10 Americans are expected to develop an eating disorder in their lifetime. When left untreated, eating disorders can have devastating effects on a person's health. Each of us has the power to help people who are struggling to receive the support and treatment they need and to promote a culture that treats everyone with dignity and respect. During National Eating Disorders Awareness Week, we call attention to this serious health condition and reaffirm that, with early access to treatment and support, a full recovery is possible.

My Administration is taking action to address eating disorders. Through the National Institute of Mental Health, we are working to develop better therapies and interventions. Through the Substance Abuse and Mental Health Services Administration (SAMHSA) and funding for the National Center of Excellence for Eating Disorders, we are also helping health care providers, families, caregivers, and community members access new tools and trainings to help detect and treat eating disorders.

I made tackling the mental health crisis a key pillar of my Administration's Unity Agenda, and since coming into office, I have invested billions of dollars to improve access to mental health services. For example, we are expanding Certified Community Behavioral Health Clinics, which deliver 24/7 mental health care to millions of Americans, regardless of their ability to pay. We are also shaping brighter futures for the next generation by helping schools hire more counselors, social workers, and nurses; expanding training for health care professionals; integrating mental health into primary care; strengthening enforcement of mental health parity laws; and addressing the harms of bullying and social media platforms that fuel eating disorders, depression, and self-harm.

This week, let us acknowledge the families of those struggling with eating disorders as they care for their loved ones. Let us recommit to celebrating and supporting our fellow Americans who are on their road to recovery. And let us spread the word that help is just a phone call away: The SAMHSA National Helpline at 1-800-662-4357 is a confidential, free, 24-hours-a-day, 365-days-a-year information and referral service. For anyone experiencing a crisis, immediate and confidential help is also available by calling or texting 988, the National Suicide and Crisis Lifeline.

NOW, THEREFORE, I, JOSEPH R. BIDEN JR., President of the United States of America, by virtue of the authority vested in me by the Constitution and the laws of the United States, do hereby proclaim February 26 through March 4, 2023, as National Eating Disorders Awareness Week. I encourage citizens, government agencies, private businesses, nonprofit organizations, and other interested groups to join in activities that will increase awareness of what Americans can do to prevent eating disorders and that will improve access to care and other support services for those currently living with an eating disorder.

IN WITNESS WHEREOF, I have hereunto set my hand this twenty-fourth day of February, in the year of our Lord two thousand twenty-three, and of the Independence of the United States of America the two hundred and forty-seventh.

[FR Doc. 2023-04326

Filed 2-28-23; 8:45 am]

Billing code 3395-F3-P